DEPARTMENT OF THE INTERIOR

Bureau of Land Management

[LLUT921000-10-5101-ER-J108; UTU-79766, NVN-82385]

Notice of Availability of Record of Decision for the Approved Pony Express Resource Management Plan Amendment; UNEV Refined Liquid Petroleum Products Pipeline Environmental Impact Statement

AGENCY: Bureau of Land Management, Interior.

ACTION: Notice of availability.

SUMMARY: The Bureau of Land Management (BLM) announces the availability of a Record of Decision (ROD) setting forth the Utah State Director's decision to approve the UNEV Refined Liquid Petroleum Products Pipeline and amend the Pony Express Resource Management Plan (RMP). The Utah State Director signed the ROD on June 25, 2010, which constitutes the final decision of the BLM and renders the Pony Express Resource Management Plan Amendment (RMPA) effective immediately.

ADDRESSES: Copies of the ROD are available for public inspection at the offices listed in the “Supplementary Information” section. Interested persons may also review the ROD at the following website: http://www.blm.gov/ut/st/en/prog/more/lands_and_realty/major_projects/unev_pipeline_eis.html.

FOR FURTHER INFORMATION CONTACT: For further information contact Joe Incardine, National Project Manager, telephone (801) 524-3833; address BLM Utah State Office, P.O. Box 45155, Salt Lake City, Utah 84145-0155; e-mail Joe_Incardine@blm.gov.

SUPPLEMENTARY INFORMATION: Copies of the ROD are available for public inspection at the Utah State Office, 440 West 200 South, Suite 500, Salt Lake City, Utah 84101; the Salt Lake Field Office, 2370 South 2300 West, Salt Lake City, Utah 84119; the Fillmore Field Office, 35 East 500 North, Fillmore, Utah 84631; the Cedar City Field Office, 176 East D.L. Sargent Drive, Cedar City, Utah 84721; the St. George Field Office, 345 East Riverside Drive, St. George, Utah 84790; the Nevada State Office, 1340 Financial Blvd., Reno, Nevada 89502; the Ely District Office, 702 North Industrial Way, Ely, Nevada 89301; and the Las Vegas Field Office, 4701 North Torrey Pines Drive, Las Vegas, Nevada 89130.

The BLM Preferred Alternative identified in the Proposed RMPA/Final Environmental Impact Statement (EIS) published on April 16, 2010, is the same as that selected in the ROD. The ROD sets forth the State Director's decision to issue a right-of-way on Federal lands for the construction and operation of a 400-mile, 12-inch diameter refined liquid petroleum products pipeline that originates in Woods Cross, Utah, with terminals northwest of Cedar City, Utah, and near Apex, Nevada. The amendment to the Salt Lake Field Office's Pony Express RMP allows for the issuance of the right-of-way on BLM administered lands for the first 82.5 miles of the proposed pipeline, and designates a new utility corridor on BLM-administered lands from mile post 54 to mile post 82.5 in Tooele County, Utah, to accommodate that portion of the proposed pipeline. Project elements will be located in Davis, Salt Lake, Tooele, Juab, Millard, Beaver, Iron, and Washington Counties in Utah, and in Lincoln and Clark Counties in Nevada. The pipeline will also cross the Moapa Band of the Paiute's Reservation in southern Nevada.

The right-of-way grant approved for the pipeline would be issued for 30 years and authorize use of a right-of-way area 50-feet wide, 25 feet on either side of the centerline of the proposed pipeline. Construction and operation of the pipeline is subject to the UNEV Plan of Development, which would be attached to and made part of the right-of-way grant.

The ROD was finalized based on multiple opportunities for public participation through scoping and later public comment on the Proposed RMPA/Final EIS. The BLM sought participation from the public, tribes, and local, state, and Federal agencies in the development of the Proposed RMPA/Final EIS. Cooperating agencies on the project included the Bureau of Indian Affairs; the Moapa Band of the Paiute Tribe; the U.S. Air Force, the Nellis Air Force Base; the U.S. Army, the Tooele Army Depot; and the U.S. Forest Service, Dixie National Forest. No inconsistencies with state or local plans, policies, or programs were identified during the Governor's consistency review of the Proposed RMPA/Final EIS.

The ROD constitutes the final decision of the BLM and amends the Pony Express RMP effective immediately. The ROD also contains implementation-level decisions that are appealable pursuant to 43 CFR part 4. Any party adversely affected by the implementation decisions may appeal the decisions to the Interior Board of Land Appeals pursuant to 43 CFR part 4, Subpart E. The appeal should state the specific decisions in the ROD that are being appealed. Please consult the appropriate regulations for further information.

Authority: 40 CFR 1506.6.

Selma Sierra,
State Director.

[FR Doc. 2010-16034 Filed 6-30-10; 8:45 am]

BILLING CODE 4310-DQ-P